DEPARTMENT OF HEALTH AND HUMAN SERVICES

Food and Drug Administration

[Docket Nos. FDA-2020-N-0908; FDA-2010-N-0583; FDA-2020-N-0257; FDA-2008-N-0490; FDA-2011-N-0017; FDA-2011-N-0144; FDA-2015-D-3327; FDA-2020-N-1207]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Submission of Petitions: Food Additive, Color Additive (Including Labeling), Submission of Information to a Master File in Support of Petitions, and Electronic Submission Using FDA Form 3503 | 0910-0016 | 09/30/2023
Radioactive Drug Research Committees | 0910-0053 | 09/30/2023
Rapid Response Surveys | 0910-0500 | 09/30/2023
Cosmetic Labeling and Voluntary Cosmetic Registration | 0910-0599 | 09/30/2023
Voluntary National Retail Food Regulatory Program Standards | 0910-0621 | 09/30/2023
FDA's Voluntary Qualified Importer Program; Guidance for Industry | 0910-0840 | 09/30/2023
GFI: E6(R2) Good Clinical Practice; International Council for Harmonisation | 0910-0843 | 09/30/2023
List of US Manufacturers of Specific CVM-Regulated Products with Interest in Exporting Covered Products to China | 0910-0884 | 09/30/2023

Dated: November 5, 2020.
Lauren K. Roth,
Acting Principal Associate Commissioner for Policy.

[FR Doc. 2020-25022 Filed 11-10-20; 8:45 am]

BILLING CODE 4164-01-P